SECURITIES AND EXCHANGE COMMISSION

Sunshine Act Meeting

Notice is hereby given, pursuant to the provisions of the Government in the Sunshine Act, Public Law 94-409, that the Securities and Exchange Commission will hold a roundtable about proxy advisory firms on December 5, 2013 from 9:30 a.m. to 1:30 p.m.

The roundtable panel will be asked to discuss topics including the current state of proxy advisory firm use by investment advisers and institutional investors and potential changes that have been suggested by market participants. Panelists will also be invited to discuss any new ideas.

The roundtable discussion will be held at SEC headquarters at 100 F Street NE in Washington, DC The roundtable will be webcast on the Commission's Web site at www.sec.gov and will be archived for later viewing. Seating for the public will be available.

For further information, please contact the Office of the Secretary at (202) 551-5400.

Dated: November 21, 2013.
Elizabeth M. Murphym
Secretary.

[FR Doc. 2013-28310 Filed 11-21-13; 4:15 pm]

BILLING CODE 8011-01-P